INTERNATIONAL TRADE COMMISSION

[Investigation Nos. 701-TA-778 and 731-TA-1764 (Preliminary)]

Fresh Mushrooms From Canada; Revised Schedule for the Subject Investigations

AGENCY: United States International Trade Commission.

ACTION: Notice.

DATES: January 13, 2026.

FOR FURTHER INFORMATION CONTACT: Jordan Harriman (202-205-2610), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: On September 16, 2025, the Commission established a schedule for the conduct of the preliminary phase of the subject investigations (90 FR 45245, September 19, 2025). On November 17, 2025, due to the lapse in appropriations and ensuing cessation of Commission operations, the Commission revised its schedule (90 FR 52094, November 19, 2025). Subsequently, the Department of Commerce (“Commerce”) extended the deadline for its initiation determination from December 15, 2025 to January 2, 2026 (90 FR 60059, December 23, 2025). The Commission, therefore, is revising its schedule to conform with Commerce's new schedule.

The Commission must reach preliminary determinations within 25 days after the date on which the Commission receives notice from Commerce of initiation of the investigations, and the Commission's views must be transmitted to Commerce within five business days thereafter.

For further information concerning this proceeding, see the Commission's notice cited above and the Commission's Rules of Practice and Procedure, part 201, subparts A and B (19 CFR part 201), and part 207, subparts A and B (19 CFR part 207).

Authority: These investigations are being conducted under authority of title VII of the Tariff Act of 1930; this notice is published pursuant to § 207.12 of the Commission's rules.

By order of the Commission.
Issued: January 13, 2025.
Lisa Barton,
Secretary to the Commission.

[FR Doc. 2026-00810 Filed 1-15-26; 8:45 am]

BILLING CODE 7020-02-P